DEPARTMENT OF COMMERCE

International Trade Administration

[A-428-602]

Brass Sheet and Strip From Germany: Preliminary Results of the Third Five-Year (“Sunset”) Review of the Antidumping Duty Order

AGENCY: Import Administration, International Trade Administration, Department of Commerce.

DATES: Effective Date: September 26, 2011.

SUMMARY: On March 1, 2011, the Department of Commerce (“the Department”) initiated its third sunset review of the antidumping duty order on brass sheet and strip from Germany, pursuant to section 751(c) of the Tariff Act of 1930, as amended (“the Act”). The Department is conducting a full sunset review of the order pursuant to 751(c) of the Act and 19 CFR 351.218(e)(2)(i). As a result of this sunset review, the Department preliminarily finds that revocation of the antidumping duty order on brass sheet and strip from Germany would likely lead to continuation or recurrence of dumping.

FOR FURTHER INFORMATION CONTACT: Joseph Shuler or Yasmin Nair, AD/CVD Operations, Office 1, Import Administration, International Trade Administration, U.S. Department of Commerce, 14th Street and Constitution Avenue, NW., Washington, DC 20230; telephone (202) 482-1293 and (202) 482-3813, respectively.

SUPPLEMENTARY INFORMATION:

Background

On March 1, 2011, the Department initiated the third sunset review of the antidumping duty order on brass sheet and strip from Germany, pursuant to section 751(c) of the Act. See Initiation of Five-Year (“Sunset”) Review, 76 FR 11202 (March 1, 2011). The Department received a notice of intent to participate from domestic interested parties, GBC Metals, LLC, of Global Brass and Copper, Inc., doing business as Olin Brass; Heyco Metals, Inc.; Luvata North America, Inc.; PMX Industries, Inc.; Revere Copper Products, Inc.; and International Association of Machinists and Aerospace Workers, United Auto Workers (Local 2367 and Local 1024), and United Steelworkers AFL-CIO CLC (collectively, “Petitioners”), within the deadline specified in 19 CFR 351.218(d)(1)(i). Petitioners claimed interested party status under section 771(9)(C) of the Act as a manufacturer, producer, or wholesaler in the United States of a domestic like product, and under section 771(9)(D) of the Act as a certified union or recognized union or group of workers representative of an industry engaged in the manufacture, production, or wholesale in the United States of a domestic like product.

On March 31, 2011, the Department received substantive responses from Petitioners. In addition to meeting the requirements specified in 19 CFR 351.218(d)(3)(i), Petitioners provided information on the volume and value of exports of brass sheet and strip from Germany. On March 31, 2011, the Department also received a substantive response from respondent interested parties in Germany, Wieland-Werke AG, Schwermetall Halbzeugwerk GmbH & Co., KG, and Messingwerk Plettenberg Herfeld & Co., KG (collectively, “Respondents”). Pursuant to 19 CFR 351.302(b), Petitioners and Respondents were granted an extension until April 12, 2011, to file rebuttal comments to the substantive responses. These comments were submitted on April 12, 2011.

On April 14, 2011, the Department released U.S. Customs and Border Protection (“CBP”) data on U.S. imports of brass sheet and strip from Germany to interested parties under the terms of the administrative protective order. On April 25, 2011, Petitioners and Respondents submitted comments on the CBP import data. On May 2, 2011, Petitioners submitted rebuttal comments, and on May 6, 2011, Respondents submitted rebuttal comments. On May 9, 2011, Petitioners submitted surrebuttal comments.

Section 351.218(e)(1)(ii)(A) of the Department's regulations provides that the Secretary normally will conclude that respondent interested parties have adequately responded to a notice of initiation where the Department receives complete substantive responses from respondent interested parties accounting on average for more than 50 percent, by volume (or value basis, if appropriate), of the total exports of the subject merchandise to the United States over the five calendar years preceding the year of publication of the notice of initiation. On June 7, 2011, the Department determined that Petitioners' and Respondents' responses constituted adequate responses to the notice of initiation. See Memorandum from Susan H. Kuhbach, Director, AD/CVD Operations, Office 1, to Edward C. Yang, Acting Deputy Assistant Secretary for AD/CVD Operations entitled “Adequacy Determination: Third Five-Year (“Sunset”) Review of the Antidumping Duty Order on Brass Sheet and Strip from Germany,” dated June 7, 2011. In accordance with 19 CFR 351.218(e)(2)(i), the Department determined to conduct a full sunset review of this antidumping duty order and notified the International Trade Commission. See Letter from James Maeder, Director, Office 2, AD/CVD Operations to Ms. Catherine DeFilippo, Director, Office of Investigations, U.S. International Trade Commission, dated June 10, 2011.

Scope of the Order

The product covered by the order is brass sheet and strip, other than leaded and tinned brass sheet and strip. The chemical composition of the covered product is currently defined in the Copper Development Association (“C.D.A.”) 200 Series or the Unified Numbering System (“U.N.S.”) C2000. The order does not cover products the chemical compositions of which are defined by other C.D.A. or U.N.S. series. In physical dimensions, the product covered by the order has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the order remains dispositive.

Analysis of Comments Received

All issues raised in this sunset review are addressed in the “Issues and Decision Memorandum for the Sunset Review of the Antidumping Duty Order on Brass Sheet and Strip from Germany; Preliminary Results” from Gary Taverman, Acting Deputy Assistant Secretary for Antidumping and Countervailing Duty Operations, to Ronald K. Lorentzen, Deputy Assistant Secretary for Import Administration (“Decision Memorandum'”), which is hereby adopted by, and issued concurrently with, this notice. The issues discussed in the Decision Memorandum are the likelihood of continuation or recurrence of dumping and the magnitude of the margins likely to prevail if the order is revoked. Parties can find a complete discussion of all issues raised in this review and the corresponding recommendations in this public memorandum which is on file in the Central Records Unit, room 7046 of the main Department building. In addition, a complete version of the Decision Memorandum can be accessed directly on the Web at http://ia.ita.doc.gov/frn. The paper copy and electronic version of the Decision Memorandum are identical in content.

Preliminary Results of Review

We preliminarily determine that revocation of the antidumping duty order on brass sheet and strip from Germany would be likely to lead to continuation or recurrence of dumping at the following weighted-average percentage margins:

Manufacturers/producers/exporters | Margin (percent)
Wieland-Werke AG | 3.81
All Others | 7.30

Any interested party may request a hearing within 30 days of publication of this notice in accordance with 19 CFR 351.310(c). Consistent with 19 CFR 351.310(d)(1), any hearing, if requested, will generally be held two days after the scheduled date for submission of rebuttal briefs, in accordance with 19 CFR 351.309(d). Interested parties may submit case briefs no later than 50 days after the date of publication of these preliminary results of review, in accordance with 19 CFR 351.309(c)(1)(i). Rebuttal briefs, which must be limited to issues raised in the case briefs, may be filed not later than five days after the time limit for filing the case brief, unless the Secretary alters this time limit. See 19 CFR 351.309(d). The Department will issue a notice of final results of this sunset review, which will include the results of its analysis of issues raised in any such briefs, no later than January 25, 2012.

This five-year (“Sunset”) review and notice are in accordance with sections 751(c), 752, and 777(i)(1) of the Act.

Dated: September 19, 2011.
Ronald K. Lorentzen,
Deputy Assistant Secretary for Import Administration.

[FR Doc. 2011-24664 Filed 9-23-11; 8:45 am]

BILLING CODE 3510-DS-P